DEPARTMENT OF HEALTH AND HUMAN SERVICES

Health Resources and Services Administration

Part C Early Intervention Services Grant Under the Ryan White HIV/AIDS Program

AGENCY: Health Resources and Services Administration (HHS).

ACTION: Notice of noncompetitive transfer of Part C funds from Cathedral Healthcare System to Saint Michael's Medical Center.

SUMMARY: HRSA will be transferring Part C funds to Saint Michael's Medical Center as a noncompetitive replacement award in order to ensure continuity of critical HIV medical care and treatment services and to avoid a disruption of HIV clinical care to clients in Metropolitan Newark, and Essex County in New Jersey.

SUPPLEMENTARY INFORMATION: Grantee of record: Cathedral Healthcare System.

Intended recipient of the award: Saint Michael's Medical Center, Newark, New Jersey.

Amount of the award: $537,607 to ensure ongoing clinical services to the target population.

Authority: Section 2651 of the Public Health Service Act, 42 U.S.C. 300ff-51.

CFDA Number: 93.918.

Project period: April 1, 2005 to March 31, 2010. The period of support for the replacement award is from April 1, 2009 to March 31, 2010.

Justification for the Exception to Competition:Critical funding for HIV medical care and treatment services to clients in Metropolitan Newark and Essex County in New Jersey will be continued through a noncompetitive supplement to Saint Michael's Medical Center, a prior sub-contractor of Cathedral Healthcare System, the grantee of record in Newark, New Jersey. This is a temporary replacement award as the previous grant recipient serving this population notified HRSA that they will not continue providing services after March 31, 2009. The Cathedral Healthcare System, the former grantee, has ceased governance and operations of its three hospitals. Saint Michael's Medical Center is the best qualified recipient for this supplement, as it already serves most of the former grantee's patients ensuring continuity of care, and can continue to provide critical services with the least amount of disruption to the service population while the service area is re-competed.

This supplement will cover the time period from April 1, 2009, through March 31, 2010. This service area will be included in the upcoming competition for the Part C HIV Early Intervention Services for project periods starting April 2010.

FOR FURTHER INFORMATION CONTACT: Maria C. Rios, via e-mail mrios@hrsa.gov, or via telephone, 301-443-0493.

Dated: April 2, 2009.
Marcia K. Brand,
Acting Deputy Administrator.

[FR Doc. E9-7963 Filed 4-7-09; 8:45 am]

BILLING CODE 4165-15-P